POSTAL REGULATORY COMMISSION

[Docket No. C2024-13; Presiding Officer's Ruling No. 3]

Complaint

AGENCY: Postal Regulatory Commission.

ACTION: Notice.

SUMMARY: The Commission is providing notice that a prehearing videoconference is being rescheduled. This notice informs the public of the videoconference rescheduled date and time.

DATES: Live WebEx Videoconference: October 30, 2024, at 10:00 p.m., eastern daylight time, virtual.

ADDRESSES: Submit notices of intervention electronically via the Commission's Filing Online system at https://www.prc.gov. Persons interested in intervening who cannot submit their views electronically should contact the person identified in the FOR FURTHER INFORMATION CONTACT: David A. Trissell, General Counsel, at 202-789-6820.

FOR FURTHER INFORMATION CONTACT: David A. Trissell, General Counsel, at 202-789-6820.

SUPPLEMENTARY INFORMATION:

I. Background

II. Ruling

I. Background

Due to the inability of one of the participants to attend, the prehearing videoconference scheduled for Thursday, October 24, 2024 must be rescheduled. The prehearing videoconference is hereby rescheduled for Wednesday, October 30, 2024, at 10:00 a.m.¹ If either party seeks a continuance of the videoconference date or an extension of time to complete activities related to the videoconference, the parties must make a good faith effort to find a mutually agreeable new date before contacting the Presiding Officer to request a scheduling change. This “good faith effort” requires the requesting party to place at least one telephone call or send one email message to the other party.

II. Ruling

1. The prehearing videoconference, scheduled for Thursday, October 24, 2024, is hereby rescheduled to Wednesday, October 30, 2024, at 10:00 a.m.

2. The Secretary shall arrange for publication of this ruling in the Federal Register.

Jennie L. Jbara,
Primary Certifying Official.

[FR Doc. 2024-25149 Filed 10-29-24; 8:45 am]

BILLING CODE 7710-FW-P